FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

ANDA Pacific, Inc., 1516 South Baldwin Avenue, #B, Arcadia, CA 91007. Officer: Weizhen Ding, CEO (Qualifying Individual).

Carmen Cargo Express, Inc., 5841 SW 21 Street, Hollywood, FL 33023. Officers: Eddy Ricardo, President (Qualifying Individual), Dayli Ricardo, Vice President.

S Cargo International, Inc., 14916 Lamoli Avenue, #16, Gardena, CA 90249. Officers: Edward H. Lee, President (Qualifying Individual); Kwang Bok Kim, Director.

BBC Freight Line Inc., 2966 E. Victoria Street, Suite #C, Rancho Dominguez, CA 90221. Officers: Douglas Edgardo Garcia, Secretary (Qualifying Individual); Fred Chen, President.

Non-Vessel-Operating Common Carrier and Ocean Freight Forwarder Transportation Intermediary Applicants

ELFS Management, Inc., 3340-D Greens Road, Suite 300, Houston, TX 77032. Officers: Dian A. Mazzei, International Director (Qualifying Individual); Frederick J. Lalumandier, Partner.

Darpex Import & Export Corp., 5543 NW 72nd Avenue, Miami, FL 33166. Officer: Dario Pereyra, President (Qualifying Individual).

Cargo Link Air Freight, Inc., Bldg. 67, Suite 3150, JFK Airport, Jamaica, NY 11430. Officers: Raymond Leung, Secretary (Qualifying Individual); Lalit Trehan, President.

ATC Logistic, Inc., 2132-A E. Dominguez Street, Long Beach, CA 90810. Officer: Paul Kang, President (Qualifying Individual).

Newskin Express, Inc., 4902 Louise Avenue, Torrance, CA 90505. Officer: Soo Jin Rho, President (Qualifying Individual).

Airways Freight Corporation dba AFC Oceancarriers, 3849 W. Wedington Drive, Fayetteville, AR 72704. Officers: Michael J. Beckers, Vice President (Qualifying Individual); Ken L. Center, President.

Ocean Freight Forwarder—Ocean Transportation Intermediary Applicant

Dorotime Services Limited, 598 Charles Street, Providence, RI 02904. Officers: Olurotimi Olugbode, President (Qualifying Individual); Edith Olugbode, Director.

Dated: August 5, 2005.
Bryant L. VanBrakle,
Secretary.

[FR Doc. 05-15844 Filed 8-10-05; 8:45 am]

BILLING CODE 6730-01-P